NUCLEAR REGULATORY COMMISSION

[Docket ID NRC-2014-0192]

Agency Information Collection Activities: Submission for the Office of Management and Budget Review; Comment Request

AGENCY: Nuclear Regulatory Commission.

ACTION: Notice of the Office of Management and Budget (OMB) review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on October 9, 2014.

1. Type of submission, new, revision, or extension: Extension.

2. The title of the information collection: NRC Form 313, “Application for Materials License” and NRC Forms 313A (RSO), 313A (AMP), 313A (ANP), 313A (AUD), 313A (AUT), and 313A (AUS).

3. Current OMB approval number: 3150-0120.

4. The form number if applicable: NRC Form 313 and NRC Forms 313A (RSO), 313A (AMP), 313A (ANP), 313A (AUD), 313A (AUT), and 313A (AUS).

5. How often the collection is required: There is a one-time submittal of the NRC Form 313 (which may include the NRC Form 313A series of forms) with information to receive a license. Once a specific license has been issued, there is a 10-year resubmittal of the NRC Form 313 (which may include the NRC form 313A series of forms) with information for renewal of the license. Amendment requests are submitted as needed by the licensee.

There is a one-time submittal for all limited specific medical use applicants of an NRC Form 313A series form to have each new individual identified as a Radiation Safety Officer (RSO), authorized medical physicist (AMP), authorized nuclear pharmacist (ANP), or authorized user or a subsequent submittal of additional information for one of these individuals to be identified with a new authorization on a limited specific medical use license.

The NRC Form 313A (RSO) is also used by medical broad scope licensees when identifying a new individual as an RSO or adding an additional RSO authorization for the individual. This submittal may occur when applying for a new license, amendment, or renewal.

The NRC Form 313A (ANP) is also used by commercial nuclear pharmacy licensees when requesting an individual be identified for the first time as ANP. This submittal may occur when applying for a new license, amendment, or renewal.

6. Who will be required or asked to report: All applicants requesting a license, amendment or renewal of a license for byproduct or source material.

7. An estimate of the number of annual responses: 14,400 (2,000 NRC licensee responses and 12,400 Agreement State licensee responses).

8. The estimated number of annual respondents: 14,400 (2,000 NRC licensees and 12,400 Agreement State licensees).

9. An estimate of the total number of hours needed annually to complete the requirement or request: 61,920 (8,600 NRC and 53,320 Agreement State hours).

10. Abstract: Applicants must submit NRC Form 313, which may include the six forms in the 313A series, to obtain a specific license to possess, use, or distribute byproduct or source material. These six forms in the 313A series are: 1) NRC Form 313A (RSO), “Radiation Safety Officer Training and Experience and Preceptor Attestation”; 2) NRC Form 313A (AMP), “Authorized Medical Physicist Training and Experience and Preceptor Attestation”; 3) NRC Form 313A (ANP), “Authorized Nuclear Pharmacist Training and Experience and Preceptor Attestation”; 4) NRC Form 313A (AUD), “Authorized User Training and Experience and Preceptor Attestation (for uses defined under 35.100, 35.200, and 35.500)”; 5) NRC Form 313A (AUT), “Authorized User Training and Experience and Preceptor Attestation (for uses defined under 35.300)”; and 6) NRC Form 313A (AUS), “Authorized User Training and Experience and Preceptor Attestation (for uses defined under 35.400 and 35.600).” The information is reviewed by the NRC to determine whether the applicant is qualified by training and experience, and has equipment, facilities, and procedures which are adequate to protect the public health and safety and minimize danger to life or property.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by March 4, 2015. Comments received after this date will be considered if it is practical to do so, but assurance of consideration cannot be given to comments received after this date.

Vlad Dorjets, Desk Officer, Office of Information and Regulatory Affairs (3150-0120), NEOB-10202, Office of Management and Budget, Washington, DC 20503.

Comments can also be emailed to Vladik_Dorjets@omb.eop.gov or submitted by telephone at 202-395-7315.

The NRC Clearance Officer is Tremaine Donnell, telephone: 301-415-6258.

Dated at Rockville, Maryland, this 28th day of January, 2015.
For the Nuclear Regulatory Commission.
Tremaine Donnell,
NRC Clearance Officer, Office of Information Services.

[FR Doc. 2015-01913 Filed 1-30-15; 8:45 am]

BILLING CODE 7590-01-P